DEPARTMENT OF THE TREASURY

Submission for OMB Review; Comment Request

April 11, 2005.

The Department of the Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before May 19, 2005 to be assured of consideration.

Bureau of the Public Debt (PD)

OMB Number: 1535-0059.

Form Number: PD F 1832 and PD F 1832-1.

Type of Review: Extension.

Title: Special form of Assignment for U.S. Registered Definitive Securities and U.S. Bearer Securities for Conversion to BECCS or CUBES.

Description: PD F 1832 and PD F 1832-1 are used to certify assignments of U.S. Registered and Bearer Securities.

Respondents: Individuals or households, Business or other for-profit, Not-for-profit institutions, Federal Government, State, local or tribal government.

Estimated Number of Respondents: 10,000.

Estimated Burden Hours Per Respondent: 15 minutes.

Frequency of Response: On occasion.

Estimated Total Reporting Burden Hours: 2,500 hours.

OMB Number: 1535-0070.

Form Number: PD F 5192.

Type of Review: Extension.

Title: Stop Payment/Replacement Check Request.

Description: PD F 5192 is used by the payee to report loss, stolen, destroyed or nonreceipt of fiscal agency check and to request a replacement check.

Respondents: Individuals or households, Business or others for-profit, Not-for-profit institutions, State, local or tribal government.

Estimated Number of Respondents: 500.

Estimated Burden Hours Per Respondent: 15 minutes.

Frequency of Response: On occasion.

Estimated Total Reporting Burden Hours: 125 hours.

OMB Number: 1535-0113.

Form Number: PD F 1849.

Type of Review: Extension.

Title: Disclaimer and Consent With Respect to United States Savings Bonds/Notes.

Description: PD F 1849 is used to obtain a disclaimer and consent as the result of an error in registration or otherwise the payment, refund of the purchase price, or reissue as requested by one person would appear to affect the right, title or interest of some other person.

Respondents: Individuals or households.

Estimated Number of Respondents: 7,000.

Estimated Burden Hours Per Respondent: 6 minutes.

Frequency of Response: On occasion.

Estimated Total Reporting Burden Hours: 700 hours.

OMB Number: 1535-0114.

Form Number: PD F 2001.

Type of Review: Extension.

Title: Release.

Description: PD F 2001 is used by the owner, co-owner, or other person entitled to ratify payment of savings bonds/notes and release the United States of America from any liability.

Respondents: Individuals or households.

Estimated Number of Respondents: 200.

Estimated Burden Hours Per Respondent: 6 minutes.

Frequency of Response: On occasion.

Estimated Total Reporting Burden Hours: 20 hours.

Clearance Officer: Vicki S. Thorpe, (304) 480-8150, Bureau of the Public Debt, 200 Third Street, Parkersburg, West VA 26106-1328.

OMB Reviewer: Joseph F. Lackey, Jr., (202) 395-7316, Office of Management and Budget, Room 10235, New Executive Office Building, Washington, DC 20503.

Lois K. Holland,
Treasury PRA Clearance Officer.

[FR Doc. 05-7781 Filed 4-18-05; 8:45 am]

BILLING CODE 4810-39-P